DEPARTMENT OF AGRICULTURE

Agricultural Marketing Service

[Docket Number FV-04-302]

United States Standards for Grades of Sweet Potatoes

AGENCY: Agricultural Marketing Service, USDA.

ACTION: Notice.

SUMMARY: The Agricultural Marketing Service (AMS), prior to undertaking research and other work associated with revising an official grade standard, is soliciting comments on a possible revision to the United States Standards for Grades of Sweet Potatoes. At a recent meeting of the Fruit and Vegetable Industry Advisory Committee, AMS was asked to review all the fresh fruit and vegetable grade standards for usefulness in serving the industry. As a result, AMS has noted that the size requirements for sweet potatoes are complex and may be difficult to apply. Therefore, AMS is soliciting comments on the possible revision of the size requirements. Additionally, AMS is seeking comments regarding any other revisions that may be necessary to better serve the industry.

DATES: Comments must be received by February 9, 2004.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, E-mail FPB.DocketClerk@usda.gov.

Comments should make reference to the dates and page number of this issue of the Federal Register and will be made available for public inspection in the above office during regular business hours.

FOR FURTHER INFORMATION CONTACT: David L. Priester, at the above address or call (202) 720-2185; E-mail: David.Priester@usda.gov.

SUPPLEMENTARY INFORMATION:

Background

At a recent meeting of the Fruit and Vegetable Industry Committee, AMS was asked to review all the fresh fruit and vegetable grade standards for usefulness in serving the industry. AMS has identified the United States Standards for Grades of Sweet Potatoes for a possible revision. These standards were last revised in 1963. As a result, AMS identified the size requirements of the U.S. Extra No. 1 grade and the U.S. No. 1 grade for possible revision. Currently the U.S. Extra No. 1 grade requires that the length of a sweet potato be not less than 3 inches or more than 9 inches, the maximum diameter not to exceed 3¼ inches, the maximum weight not to exceed 18 ounces and unless otherwise specified, the minimum diameter not be less than 1¾ inches. The U.S. No. 1 grade requires the maximum diameter of a sweet potato not to exceed 3½ inches, the maximum weight not to exceed 20 ounces, the length be not less than 3 inches or more than 9 inches unless otherwise specified, and the minimum diameter not be less than 1¾ inches unless otherwise specified. These requirements are complex and may be difficult to apply. While these requirements may have reflected sweet potatoes sizes marketed in the past, but they need to be updated to reflect the marketing of sweet potatoes today. Therefore, AMS believes that a change to these requirements is warranted to better serve the industry. However, prior to undertaking detailed work to develop a proposed revision to the standard, AMS is soliciting comments on the possible revision to the standard and the probable impact on distributors, processors, and growers. Additionally, AMS is seeking comments regarding any other revisions that may be necessary to better serve the industry.

This notice provides for a 60-day comment period for interested parties to comment on changes to the standard. Should AMS proceed with revising the standard, the proposed revision of the standard will be published in the Federal Register with a request for comments in accordance with 7 CFR part 36.

Authority: 7 U.S.C. 1621-1627.

Dated: December 4, 2003.
A.J. Yates,
Administrator, Agricultural Marketing Service.

[FR Doc. 03-30601 Filed 12-9-03; 8:45 am]

BILLING CODE 3410-02-P